SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for revisions to OMB-approved information collections and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB), Office of Management and Budget, Fax: 202-395-6974. (SSA), Social Security Administration, DCFAM, Attn: Reports Clearance Officer, 1333 Annex Building, 6401 Security Blvd., Baltimore, MD 21235, Fax: 410-965-6400.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Marriage Certification—20 CFR 404.725—0960-0009. When the worker and spouse are not filing concurrently, the Social Security Administration uses Form SSA-3-F6 to record any changes/additions to the worker's marital history since the worker's claim was adjudicated. The marital history of the claimant's wife or husband, when compared to the worker's marital history (as supplemented by Form SSA-3-F6), enables the fact finder to determine if the claimant has the necessary relationship to the worker. In cases where the spouse and worker were ceremonially married, the worker's statement on his/her marital history that he/she was ceremonially married to the claimant's spouse and the claimant's spouse's statement that he/she was ceremonially married to the worker generally constitute evidence of a ceremonial marriage in lieu of obtaining a marriage certificate.

Type of Request: Extension of an OMB-approved information collection.

Number of Respondents: 180,000.

Frequency of Response: 1.

Average Burden Per Response: 5 minutes.

Estimated Annual Burden: 15,000 hours.

2. Request To Be Selected As Payee—20 CFR 404.2025 and 416.625—0960-0014. The information established by the form SSA-11-BK is necessary to determine the proper payee for a Social Security beneficiary and Supplemental Security Income (SSI) recipient. The form is designed to aid in the investigation of a payee applicant. The use of the form will establish the applicant's relationship to the beneficiary/recipient, his/her justification and his/her concern for the beneficiary/recipient, as well as the manner in which the benefits will be used. The respondents are applicants for representative payee.

Type of Request: Revision of an OMB-approved information collection.

Number of Respondents: 2,121,686.

Frequency of Response: 1.

Average Burden Per Response: 10.5 minutes.

Estimated Annual Burden: 371,295 hours.

3. Statement for Determining Continuing Eligibility for Supplemental Security Income Payments—Adult, Form SSA-3988; Statement for Determining Continuing Eligibility for Supplemental Security Income Payments—Child, Form SSA-3989-20 CFR Subpart B—416.204—0960-NEW.

Background

The Social Security Act mandates periodic redeterminations of non-medical factors relating to SSI recipient's continuing eligibility for SSI payments. SSA studies have indicated that as many as two-thirds of these scheduled redeterminations, which are completed with the assistance of an SSA employee, do not result in any change in circumstances that affects the recipients payment. SSA has conducted extensive testing of both of the SSA-3988 and SSA-3989, under OMB control number 0960-0643, and has validated that these redetermination formats result in significant operational savings and a decrease in recipient inconvenience while still obtaining timely, accurate data to determine continuing eligibility through the process.

The Collection

Forms SSA-3988 and SSA-3989 will be used to determine whether SSI recipients have met and continue to meet all statutory and regulatory non-medical requirements for SSI eligibility, and whether they have been and are still receiving the correct payment amount. The SSA-3988 and SSA-3989 are designed as self-help forms that will be mailed to recipients or to their representative payees for completion and return to SSA. The respondents are recipients of SSI payments or their representatives.

Type of Request: New information collection.

Forms | Respondents | Frequency of response | Average burden per response (minutes) | Estimated annual burden (hours)
SSA-3988 | 650,000 | 1 | 26 | 281,667
SSA-3989 | 65,000 | 1 | 26 | 28,167

4. Denial of Title II Benefits to Fugitive Felons—0960-New. Specifically, Section 203 of the SSPA prohibits payment of title II benefits:

• To persons fleeing to avoid prosecution or custody or confinement after conviction, under the laws of the place from which the person flees, for a crime, or an attempt to commit a crime, which is a felony under the laws of the place from which the person flees; or

• In jurisdictions that do not define crimes as felonies, where the crime is punishable by death or imprisonment for a term exceeding 1 year regardless of the actual sentence imposed; and

• To persons violating a condition of probation or parole imposed under Federal or State law.

To identify claimants who should not be receiving benefits, the Commissioner directed that we add specific questions to title II applications that solicit information about any outstanding felony warrants or warrants for parole/probation violations.

In addition, SSA will collect supplemental information if a claimant responds affirmatively to either or both of the two fugitive felon questions on title II applications, thereby indicating that they have an unsatisfied warrant. Answers to these questions will be used to verify that a warrant is still outstanding. An SSA claims representative will contact beneficiaries by telephone to collect the information. Respondents will be claimants for benefits who indicated on their application that they have an unsatisfied warrant.

Type of Request: New information collection.

Number of Respondents: 10,000.

Frequency of Response: 1.

Average Burden Per Response: 8 minutes.

Estimated Annual Burden: 1,333 hours.

II. The information collections listed below have been submitted to OMB for clearance. Your comments on the information collections would be most useful if received by OMB and SSA within 30 days from the date of this publication. You can obtain a copy of the OMB clearance package by calling the SSA Reports Clearance Officer at 410-965-0454, or by writing to the address listed above.

Social Security Benefits Application—20 CFR Subpart D, 404.310-404.311 and 20 CFR Subpart F, 404.601-404.603—0960-0618. One of the requirements for obtaining Social Security benefits is the filing of an application so that a determination may be made on the applicant's eligibility for monthly benefits. In addition to the traditional paper application, SSA has developed various options for the public to add convenience and operational efficiency to the application process. The total estimated number of respondents to all application collection formats is 3,874,369 with a cumulative total of 1,008,180 burden hours. The respondents are applicants for retirement insurance benefits (RIB), disability insurance benefits (DIB), and/or spouses' benefits.

Please note that burden hours for applications taken through the Modernized Claims System (MCS) are accounted for in the hardcopy collection formats. Guided by the MCS collection screens, an SSA representative interviews the applicant and inputs the information directly into the SSA's application database. MCS offers the representative prompts based on the type of application being filed and the circumstances of the applicant. These prompts facilitate a more complete initial application, saving both the agency and applicant time. MCS also propagates identity and similar information within the application, which saves additional time.

Internet Social Security Benefits Application (ISBA)

Type of Request: Revision of an OMB-approved information collection. (ISBA collection only)

ISBA, which is available through SSA's Internet site, is one method that an individual can choose to file an application for benefits. Individuals can use ISBA to apply for RIB, DIB and spouse's insurance benefits based on age. SSA gathers only information relevant to the individual applicant's circumstances and will use the information collected by ISBA to entitle individuals to RIB, DIB, and/or spouse's benefits. The respondents are applicants for RIB, DIB, and/or spouse's benefits.

Number of Respondents: 200,000.

Frequency of Response: 1.

Average Burden Per Response: 21.9 minutes.

Estimated Annual Burden: 73,000 hours.

Paper Application Forms

Application for Retirement Insurance Benefits (SSA-1)

Form SSA-1 is used by SSA to determine an individual's entitlement to RIB. In order to receive Social Security retirement insurance benefits, an individual must file an application with SSA. Form SSA-1 is one application that the Commissioner of Social Security prescribes to meet this requirement. The information that SSA collects will be used to determine entitlement to retirement benefits. The respondents are individuals who choose to apply for Social Security retirement insurance.

Number of Respondents: 1,460,692.

Frequency of Response: 1.

Average Burden Per Response: 10.5 minutes.

Estimated Annual Burden: 255,621 hours.

Application for Wife's or Husband's Insurance Benefits (SSA-2)

SSA uses the information collected on Form SSA-2 to determine if an applicant (including a divorced applicant) can be entitled to benefits as the spouse of the worker and the amount of the spouse's benefits. The respondents are applicants for wife's or husband's benefits, including those who are divorced.

Number of Respondents: 700,000.

Frequency of Response: 1.

Average Burden Per Response: 15 minutes.

Estimated Annual Burden: 175,000 hours.

Application for Disability Insurance Benefits (SSA-16)

Form SSA-16-F6 obtains the information necessary to determine whether the provisions of the Act have been satisfied with respect to an applicant for disability benefits, and detects whether the applicant has dependents who would qualify for benefits based on his or her earnings record. The information collected on form SSA-16-F6 helps to determine eligibility for Social Security disability benefits. The respondents are applicants for Social Security disability benefits.

Number of Respondents: 1,513,677.

Frequency of Response: 1.

Average Burden Per Response: 20 minutes.

Estimated Annual Burden: 504,559 hours.

Dated: June 13, 2005.
Elizabeth A. Davidson,
Reports Clearance Officer, Social Security Administration.

[FR Doc. 05-11974 Filed 6-16-05; 8:45 am]

BILLING CODE 4191-02-P